ENVIRONMENTAL PROTECTION AGENCY

[ER-FRL-6658-2]

Environmental Impact Statements; Notice of Availability

Responsible Agency: Office of Federal Activities, General Information (202) 260-5073 or (202) 260-5075.

Weekly receipt of Environmental Impact Statements Filed November 22, 2004 Through November 26, 2004 Pursuant to 40 CFR 1506.9.

EIS No. 040543, Final EIS, FHW, MI, MI-59 Livingston County Widening Project between I-96 and US 23, Recommended Alternative was Selected, Right-of-Way Preservation Center Corridor, Funding, NPDES and U.S. Army COE Section 404 Permits Issuance, Livingston County, MI, Wait Period Ends: January 3, 2005, Contact: Abdelmoez Abda lla (517) 702-1820.

EIS No. 040544, Draft Supplement, FHW, UT, Legacy Parkway Project, Construction from I-215 at 2100 North in Salt Lake City to I-15 and US 89 near Farmington, Updated Information, Funding and U.S. Army COE Section 404 Permit, Salt Lake and Davis Counties, UT, Comment Period Ends: February 1, 2005, Contact: Gregory Punske (801) 963-0182.

EIS No. 040545, Draft EIS, AFS, PA, Martin Run Project, To Implement Management Direction as Outlined in Allegheny National Forest Plan, Bradford Ranger District, Allegheny National Forest, Warren and McKean Counties, PA, Comment Period Ends: January 18, 2005, Contact: Heather Luczak (814) 362-4613.

EIS No. 040546, Draft EIS, NPS, AZ, Chiricahua National Monument Fire Management Plan (FMP), Implementation, AZ, Comment Period Ends: February 2, 2005, Contact: Alan Whaton (520) 824-3560.

EIS No. 040547, Draft EIS, IBR, CA, Folsom Dam Road Access Restriction Project, Control Access to Folsom Dam, City of Folsom, CA, Comment Period Ends: January 18, 2005, Contact: Robert Schroeder (916) 989-7274.

EIS No. 040549, Draft EIS, BLM, CO, Roan Plateau Resource Management Plan Amendment, Including Former Naval Oil Shale Reserves 1 and 2, Garfield and Rio Blanco Counties, CO, Comment Period Ends: March 4, 2005, Contact: Steve Bennett (970) 947-2800.

EIS No. 040549, Draft EIS, FHW, MD, Intercounty Connector (ICC) from I-270 to US 1, Funding and U.S. Army COE 404 Section Permit, Montgomery and Prince George's Counties, MD, Comment Period Ends: February 1, 2005, Contact: Nelson J. Castellanos (410) 962-4440.

EIS No. 040550, Draft EIS, COE, NY, Hudson River at Athens, New York Navigation Project, Design and Construction of a Spur Navigation Channel, Hudson River, New York City, NY, Comment Period Ends: January 18, 2005, Contact: Bonnie Hulkower (202) 264-5798.

EIS No. 040551, Draft EIS, FHW, WI, WI-23 Highway Project, Transportation Improve between Fond du Lac and Plymouth, Funding, Fond du Lac and Sheboygan Counties, WI, Comment Period Ends: January 21, 2005, Contact: Johnny Gerbitz (608) 829-7500.

EIS No. 40452, Final EIS, CGD, LA, Gulf Landing Deepwater Port License Application for Construct of a Deepwater Port and Associated Anchorages in the Gulf of Mexico, South of Cameron, LA, Wait Period Ends: January 3, 2005, Contact: Mark A. Prescott (202) 267-0225.

Amended Notices

EIS No. 404529, Draft EIS, COE, MA, Cape Wind Energy Project Construct and Operate 130 Wind Turbine Generators on Horseshoe Shoal in Nantucket Sound, MA, Comment Period Ends: February 24, 2005, Contact: Karen Adams (978) 318-8338.

Revision of FR Notice Published on 11/19/04: CEQ Comment Period Ending 1/18/2005 has been Extended to 2/24/2005.

Dated: November 30, 2004.
Robert W. Hargrove,
Director, NEPA Compliance Division, Office of Federal Activities.

[FR Doc. 04-26629 Filed 12-2-04; 8:45 am]

BILLING CODE 6560-50-M